SMALL BUSINESS ADMINISTRATION

Data Collection Available for Public Comments

ACTION: 60-Day notice and request for comments.

SUMMARY: The Small Business Administration (SBA) intends to request approval from the Office of Management and Budget (OMB) for the collection of information described below. The Paperwork Reduction Act (PRA) requires Federal agencies to publish a notice in the Federal Register concerning each proposed collection of information before submission to OMB, and to allow 60 days for public comment in response to the notice. This notice complies with that requirement.

DATES: Submit comments on or before December 16, 2024.

ADDRESSES: Send all comments via email to Shayne Bradshaw, Financial Analyst, Office of Credit Risk Management, 202-996-5370 at shayne.bradshaw@sba.gov.

FOR FURTHER INFORMATION CONTACT: Paul Kirwin, Chief, Supervised Lender Oversight Division, Office of Credit Risk Management, Paul.Kirwin@sba.gov, or Curtis B. Rich, Agency Clearance Officer, 202-205-7030, curtis.rich@sba.gov.

SUPPLEMENTARY INFORMATION: The 504 Loan Program aims to foster economic development and to create or preserve job opportunities in both urban and rural areas by providing long-term financing for small business concerns. A Certified Development Company (CDC) is an entity authorized by the Small Business Administration (SBA) to deliver 504 financing to small businesses. 13 CFR 120.830 requires CDCs to submit certain reports to SBA, collectively known as the “Annual Report”. As the primary regulatory body overseeing CDCs, the SBA conducts due diligence to ensure CDCs comply with the operational and regulatory requirements of the 504 program, thereby ensuring its sustainability. The CDC Annual Report Guide serves the Office of Credit Risk Management, the Office of Financial Assistance, and all SBA District Offices by providing crucial information on the CDCs' financial health, regulatory compliance, and the effectiveness of their assistance to small businesses. This information also aids the SBA in drafting reports to Congress.

The information collection has been adjusted to include the following proposed changes:

1. Revised Economic Development Report: Standardized to gather pertinent, measurable data on current period economic development activity. Changes include the removal of certain information collections such as the report on previous year's investment and results, narrative on local economic changes which impact lending, and economic development strategy and projections for the upcoming year.

2. Enhanced Guidance and Optional Tables: Added to facilitate the compilation of the Report.

3. Requirement for Auditor's Engagement Letter: To be submitted alongside CDC financial statements.

4. Updated 159 Reporting: Reflects changes in SOP 50 10 7.1, no longer requiring completed Form 159 submissions with the Annual Report.

5. Report on Compensation: removed requirement for submission of Executive Compensation Policy and certain supporting documentation.

6. Guidance for Program Renewals: Added instructions for the Accredited Lenders Program (ALP) and Premier Certified Lenders Program (PCLP) renewals.

These updates aim to streamline the information collection process, reduce the administrative burden on CDCs, enhance the utility of the report, and standardize data reporting to improve overall reporting efficiency and oversight.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0074.

Title: Certified Development Company (CDC) Annual Report Guide.

Description of Respondents: Certified Development Companies.

Form Number: SBA Form 1253.

Total Estimated Annual Responses: 195.

Total Estimated Annual Hour Burden: 5,460 (28 Hours on average per CDC).

Curtis B. Rich,
Agency Clearance Officer.

[FR Doc. 2024-23767 Filed 10-11-24; 8:45 am]

BILLING CODE 8026-09-P